DEPARTMENT OF COMMERCE

International Trade Administration

[A-570-900]

Diamond Sawblades and Parts Thereof From the People's Republic of China: Initiation of Antidumping Duty Changed Circumstances Review

AGENCY: Import Administration, International Trade Administration, Department of Commerce.

SUMMARY: Pursuant to section 751(b) of the Tariff Act of 1930, as amended, and 19 CFR 351.216 and 351.221(c)(3), the Department of Commerce is initiating a changed circumstances review of the antidumping duty order on diamond sawblades and parts thereof from the People's Republic of China with respect to Husqvarna (Hebei) Co., Ltd.

DATES: Effective Date: January 8, 2013.

FOR FURTHER INFORMATION: Yang Jin Chun AD/CVD Operations, Office 1, Import Administration, International Trade Administration, U.S. Department of Commerce, 14th Street and Constitution Avenue NW., Washington, DC 20230; telephone: (202) 482-5760.

SUPPLEMENTARY INFORMATION:

Background

The Department of Commerce (the Department) published the antidumping duty order on diamond sawblades and parts thereof from the People's Republic of China on November 4, 2009. See Diamond Sawblades and Parts Thereof From the People's Republic of China and the Republic of Korea: Antidumping Duty Orders, 74 FR 57145 (November 4, 2009).

On October 1, 2012, Husqvarna (Hebei) Co., Ltd. (“Hebei Husqvarna”), an interested party in the ongoing, 2010-2011 administrative review, filed a request for a changed circumstances review. In its letter, Hebei Husqvarna informed the Department that Hebei Husqvarna Jikai Diamond Tools Co., Ltd. changed its name to Husqvarna (Hebei) Co., Ltd. on April 27, 2012, and it requested that the Department find Hebei Husqvarna to be the successor-in-interest to Hebei Husqvarna Jikai Diamond Tools Co., Ltd..

Scope of the Order

The products covered by the order are all finished circular sawblades, whether slotted or not, with a working part that is comprised of a diamond segment or segments, and parts thereof. Merchandise subject to the order is typically imported under heading 8202.39.00.00 of the Harmonized Tariff Schedule of the United States (“HTSUS”). When packaged together as a set for retail sale with an item that is separately classified under headings 8202 to 8205 of the HTSUS, diamond sawblades or parts thereof may be imported under heading 8206.00.00.00 of the HTSUS. On October 11, 2011, the Department added HTSUS 6804.21.00.00 to the scope description pursuant to a request by U.S. Customs and Border Protection. The tariff classification is provided for convenience and customs purposes; however, the written description, available in Diamond Sawblades and Parts Thereof From the People's Republic of China: Preliminary Results of Antidumping Duty Administrative Review: 2010-2011, 77 FR 73417 (December 10, 2012), is dispositive.

Initiation of Changed Circumstances Review

Based on Hebei Husqvarna's request and in accordance with section 751(b)(1) of the Tariff Act of 1930, as amended (the Act), and 19 CFR 351.216(b), the Department is initiating a changed circumstances review to determine whether Hebei Husqvarna is the successor-in-interest to Hebei Husqvarna Jikai Diamond Tools Co., Ltd. In accordance with 19 CFR 351.221(b)(2), we will send to interested parties questionnaires requesting factual information for review.

In accordance with 19 CFR 351.221(c)(3), the Department will publish in the Federal Register a notice of preliminary results of this changed circumstances review, which will set forth the factual and legal conclusions upon which our preliminary results are based and a description of any action proposed based on those results.

This notice of initiation is in accordance with section 751(b)(1) of the Act, 19 CFR 351.216(b) and (d), and 19 CFR 351.221(b)(1).

Dated: December 31, 2012.
Gary Taverman,
Senior Advisor for Antidumping and Countervailing Duty Operations.

[FR Doc. 2013-00158 Filed 1-7-13; 8:45 am]

BILLING CODE 3510-DS-P